DEPARTMENT OF ENERGY

Federal Energy Regulatory Commission

Combined Notice of Filings #1

September 14, 2009.

Take notice that the Commission received the following electric corporate filings:

Docket Numbers: EC09-108-000.

Applicants: ALLETE, Inc.

Description: Allete submits Application for Authorization to Acquire Transmission Facilities.

Filed Date: 09/04/2009.

Accession Number: 20090909-0146.

Comment Date: 5 p.m. Eastern Time on Friday, September 25, 2009.

Take notice that the Commission received the following electric rate filings:

Docket Numbers: ER06-1367-005; ER06-745-004; ER07-239-004; ER99-1714-008.

Applicants: BG Dighton Power, LLC, BG Energy Merchants, LLC, MASSPOWER, Lake Road Generating Company, L.P.

Description: BG Dighton Power, LLC, et al. Notice of Non-Material Change in Status.

Filed Date: 09/09/2009.

Accession Number: 20090909-5053.

Comment Date: 5 p.m. Eastern Time on Wednesday, September 30, 2009.

Docket Numbers: ER09-1505-001.

Applicants: Stony Creek Wind Farm, LLC.

Description: Stony Creek submits supplement to its MBR application in response to requests from FERC.

Filed Date: 09/10/2009.

Accession Number: 20090911-0056.

Comment Date: 5 p.m. Eastern Time on Thursday, October 1, 2009.

Docket Numbers: ER09-1684-000.

Applicants: Mississippi Power Company.

Description: Application of Mississippi Power Company Update Its Depreciation Rates for the calculation of charges for service provided.

Filed Date: 09/09/2009.

Accession Number: 20090909-5014.

Comment Date: 5 p.m. Eastern Time on Wednesday, September 30, 2009.

Docket Numbers: ER09-1689-000.

Applicants: Backyard Farms Energy LLC.

Description: Backyard Farms Energy, LLC submits application for authorization to make wholesale sales of energy and capacity at negotiated, market based rates.

Filed Date: 09/11/2009.

Accession Number: 20090911-0054.

Comment Date: 5 p.m. Eastern Time on Friday, October 2, 2009.

Docket Numbers: ER09-1690-000.

Applicants: Xcel Energy Services Inc.

Description: Southwestern Public Service Company submits Notice of Termination of Experimental Sales Rider Agreements.

Filed Date: 09/09/2009.

Accession Number: 20090910-0390.

Comment Date: 5 p.m. Eastern Time on Wednesday, September 30, 2009.

Docket Numbers: ER09-1691-000.

Applicants: Pacific Gas and Electric Company.

Description: Pacific Gas and Electric Company submits Notice of Termination of PG&E Rate Schedule FERC 235, et al.

Filed Date: 09/10/2009.

Accession Number: 20090911-0058.

Comment Date: 5 p.m. Eastern Time on Thursday, October 1, 2009.

Docket Numbers: ER09-1692-000.

Applicants: Southern California Edison Company.

Description: Southern California Edison Co. submits revised rate sheets to the Barre Peaker Project Large Generator Interconnection Agreement et al.

Filed Date: 09/10/2009.

Accession Number: 20090911-0057.

Comment Date: 5 p.m. Eastern Time on Thursday, October 1, 2009.

Docket Numbers: ER09-1693-000.

Applicants: New York Independent System Operator, Inc., Niagara Mohawk Power Corporation, Green Power Energy, LLC.

Description: New York Independent System Operator, Inc submits Original Sheet 1 et al to FERC Electric Tariff, Original Volume 1, Service Agreement 1483.

Filed Date: 09/10/2009.

Accession Number: 20090911-0052.

Comment Date: 5 p.m. Eastern Time on Thursday, October 1, 2009.

Docket Numbers: ER09-1694-000.

Applicants: PacifiCorp.

Description: PacifiCorp submits for filing Original Sheet 1 et al to FERC Electric Tariff, 7th Revised Volume 11, First Revised Service Agreement 347.

Filed Date: 09/10/2009.

Accession Number: 20090911-0053.

Comment Date: 5 p.m. Eastern Time on Thursday, October 1, 2009.

Docket Numbers: ER09-1696-000.

Applicants: Midwest Independent Transmission System Operator, Inc.

Description: Midwest Independent Transmission System Operator, Inc. submits executed Amended and Restated Large Generator Interconnection Agreement dated 9/3/09 among Midwest ISO, et al.

Filed Date: 09/11/2009.

Accession Number: 20090911-0102.

Comment Date: 5 p.m. Eastern Time on Friday, October 2, 2009.

Take notice that the Commission received the following electric securities filings:

Docket Numbers: ES09-52-000.

Applicants: Louisville Gas & Electric Company.

Description: Application of Louisville Gas and Electric Company for Authority to Issue Short-Term Debt Securities.

Filed Date: 09/10/2009.

Accession Number: 20090910-5109.

Comment Date: 5 p.m. Eastern Time on Thursday, October 1, 2009.

Docket Numbers: ES09-53-000.

Applicants: Kentucky Utilities Company.

Description: Application of Kentucky Utilities Company for Authority to Issue Short-Term Debt Securities.

Filed Date: 09/10/2009.

Accession Number: 20090910-5110.

Comment Date: 5 p.m. Eastern Time on Thursday, October 1, 2009.

Docket Numbers: ES09-54-000.

Applicants: Midwest Independent Transmission System Operator, Inc.

Description: Application of the Midwest Independent Transmission System Operator, Inc. Under Section 204 of the Federal Power Act to Issue Securities.

Filed Date: 09/14/2009.

Accession Number: 20090914-5060.

Comment Date: 5 p.m. Eastern Time on Monday, October 5, 2009.

Take notice that the Commission received the following open access transmission tariff filings:

Docket Numbers: OA07-58-005.

Applicants: NorthWestern Corporation.

Description: Compliance Filing of NorthWestern Corporation.

Filed Date: 09/14/2009.

Accession Number: 20090914-5033.

Comment Date: 5 p.m. Eastern Time on Monday, October 5, 2009.

Docket Numbers: OA08-23-002; OA08-28-003; OA08-31-003; OA08-40-002; OA08-45-003; OA08-54-005; OA08-55-005; OA08-56-005; OA08-57-005; OA08-118-002.

Applicants: Idaho Power Company, Deseret Generation & Transmission Co-op., Portland General Electric Company, NorthWestern Corporation, PacifiCorp.

Description: Compliance Filing of Idaho Power Company, et al.

Filed Date: 09/14/2009.

Accession Number: 20090914-5082.

Comment Date: 5 p.m. Eastern Time on Monday, October 5, 2009.

Docket Numbers: OA08-30-002.

Applicants: El Paso Electric Company.

Description: Attachment K Compliance Filing of El Paso Electric Company.

Filed Date: 09/11/2009.

Accession Number: 20090911-5100.

Comment Date: 5 p.m. Eastern Time on Friday, October 2, 2009.

Docket Numbers: OA08-38-004.

Applicants: Sierra Pacific Resources Operating Company.

Description: Compliance Filing of Sierra Pacific Resources Operating Companies for the OATT Attachment K—Transmission Planning Process.

Filed Date: 09/14/2009.

Accession Number: 20090914-5165.

Comment Date: 5 p.m. Eastern Time on Monday, October 5, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-22723 Filed 9-21-09; 8:45 am]

BILLING CODE 6717-01-P